ENVIRONMENTAL PROTECTION AGENCY

[FRL-8695-1]

Proposed CERCLA Administrative Cost Recovery Settlement; Old Village Mill, LLC, Brunswick Mill Site and Carvill Combing Company Site, Plainfield, CT

AGENCY: Environmental Protection Agency (EPA).

ACTION: Notice of proposed settlement; request for public comment.

SUMMARY: In accordance with section 122(i) of the Comprehensive Environmental Response Compensation and Liability Act, as amended (“CERCLA”), 42 U.S.C. 9622(i), notice is hereby given of a proposed administrative settlement for recovery of past costs concerning the Brunswick Mill Superfund Site and Carvill Combing Company Superfund Site in Plainfield, Connecticut with the following settling party: Old Village Mill, LLC. The settlement requires the settling party to pay $225,000.00 to the Hazardous Substance Superfund. The settlement includes a covenant not to sue for the settling party pursuant to sections 106 and 107(a) of CERCLA, 42 U.S.C. 9606 and 9607(a). For thirty (30) days following the date of publication of this notice, the Agency will receive written comments relating to the settlement. The Agency will consider all comments received and may modify or withdraw its consent to the settlement if comments received disclose facts or considerations which indicate that the settlement is inappropriate, improper, or inadequate.

The Agency's response to any comments received will be available for public inspection at One Congress Street, Boston, MA 02114-2023.

DATES: Comments must be submitted on or before August 20, 2008.

ADDRESSES: Comments should be addressed to Mary Jane O'Donnell, Chief, ME/VT/CT Superfund Section, U.S. Environmental Protection Agency, Region I, One Congress Street, Suite 1100 (HBT), Boston, Massachusetts 02114-2023 (Telephone No. 617-918-1371) and should refer to: In re: Brunswick Mill Superfund Site and Carvill Combing Company Superfund Site, U.S. EPA Docket No. 01-2008-0029.

FOR FURTHER INFORMATION CONTACT: A copy of the proposed settlement may be obtained from Mary Jane O'Donnell, Chief, ME/VT/CT Superfund Section, U.S. Environmental Protection Agency, Region I, One Congress Street, Suite 1100 (HBT), Boston, Massachusetts 02114-2023 (Telephone No. 617-918-1371; e-mail odonnell.maryjane@epa.gov).

Dated: April 17, 2008.
James T. Owens, III,
Director, Office of Site Remediation and Restoration.

[FR Doc. E8-16640 Filed 7-18-08; 8:45 am]

BILLING CODE 6560-50-P